DEPARTMENT OF HOUSING AND URBAN DEVELOPMENT

[Docket No. FR-5266-D-01]

Order of Succession for the Office of the Assistant Secretary for Administration

AGENCY: Office of the Assistant Secretary for Administration, HUD.

ACTION: Notice of Order of Succession.

SUMMARY: In this notice, the Assistant Secretary for Administration designates the Order of Succession for the Office of Administration. This Order of Succession supersedes the Order of Succession for the Assistant Secretary for Administration published on October 18, 2006.

DATES: Effective Date: October 28, 2008.

FOR FURTHER INFORMATION CONTACT: Michelle Gaston, Director, Office of Budget and Management Support, Office of Administration, Department of Housing and Urban Development, 451 7th Street, SW., Room 6210, Washington, DC 20410-3000, telephone number 202-708-1583. (This is not a toll-free number.) For individuals with speech or hearing impairments, this number may be accessed through TTY by calling the toll-free Federal Information Relay Service number at 1-800-877-8339.

SUPPLEMENTARY INFORMATION: The Assistant Secretary for Administration is issuing this Order of Succession of officials authorized to perform the duties and functions of the Office of the Assistant Secretary for Administration when, by reason of absence, disability, or vacancy in the office, the Assistant Secretary for Administration is not available to exercise the powers or perform the duties of the office. This Order of Succession is subject to the provisions of the Federal Vacancies Reform Act of 1998 (5 U.S.C. 3345-3349d). This publication supersedes the Order of Succession notice published on October 18, 2006 (71 FR 61498).

Accordingly, the Assistant Secretary for Administration designates the following Order of Succession:

Section A. Order of Succession

Subject to the provisions of the Federal Vacancies Reform Act of 1998, during any period when, by reason of absence, disability, or vacancy in office, the Assistant Secretary for Administration is not available to exercise the powers or perform the duties of the Office of the Assistant Secretary for Administration, the following officials within the Office of Administration are hereby designated to exercise the powers and perform the duties of the Assistant Secretary for Administration:

(1) General Deputy Assistant Secretary for Administration;

(2) Deputy Assistant Secretary for Human Resource Management;

(3) Deputy Assistant Secretary for Budget and Management Support;

(4) Director, Office of Security and Emergency Planning;

(5) Director, Office of Human Resource Management;

(6) Director, Office of Field Administrative Resources.

The officials shall perform the functions and duties of this office in the order specified herein, and no official shall serve unless all the other officials whose position titles precede his or hers in this order, are unable to act by reason of absence, disability, or vacancy in office.

Section B. Authority Superseded

This Order of Succession supersedes the Order of Succession for the Assistant Secretary for Administration published on October 18, 2006 (71 FR 61498).

Authority: Section 7(d), Department of Housing and Urban Development Act (42 U.S.C. 3535(d)).

Dated: October 28, 2008.
Keith A. Nelson,
Assistant Secretary for Administration.

[FR Doc. E8-27130 Filed 11-13-08; 8:45 am]

BILLING CODE 4210-67-P